TENNESSEE VALLEY AUTHORITY

Meeting No. 08-05

Time and Date: 10 a.m. CDT, October 30, 2008, The Scarritt-Bennett Center, Laskey Building, 1st Floor, 1008 19th Avenue South, Nashville, Tennessee.

Agenda

Old Business

Approval of minutes of August 20, 2008, Board meeting.

New Business

1. Chairman's Report

2. President's Report

3. Report of the Finance, Strategy, Rates, and Administration Committee

A. Customer issues

i. Two-Part Real Time Pricing

B. Tax-equivalent payments for Fiscal Year 2008 and estimated Payments for Fiscal Year 2009

C. Fiscal Year 2008 Winning Performance Scorecard review

D. Winning Performance measures and balanced scorecard for Fiscal Year 2009

E. TVARS lump-sum approval and delegation

F. Management Compensation for Fiscal Year 2009

4. Report of the Operations, Environment, and Safety Committee

A. Contract for greater than 100 MW of Firm Demand

B. TVA Principle and Board Practice—Commitment to Nuclear Safety

5. Report of the Audit, Governance, and Ethics Committee

6. Report of the Community Relations and Energy Efficiency Committee

A. Regional Resource Stewardship Council charter renewal

B. Valley Investment Initiative

For more information: Please call TVA Media Relations at (865) 632-6000, Knoxville, Tennessee. People who plan to attend the meeting and have special needs should call (865) 632-6000. Anyone who wishes to comment on any of the agenda in writing may send their comments to: TVA Board of Directors, Board Agenda Comments, 400 West Summit Hill Drive, Knoxville, Tennessee 37902.

Dated: October 23, 2008.
Maureen H. Dunn,
General Counsel and Secretary.

[FR Doc. E8-25776 Filed 10-30-08; 8:45 am]

BILLING CODE 8120-08-M